NUCLEAR REGULATORY COMMISSION

[Docket No. 50-320; NRC-2013-0183]

Three Mile Island, Unit 2; Post Shutdown Decommissioning Activities Report

AGENCY: Nuclear Regulatory Commission.

ACTION: Notice of receipt; availability; request for comment.

SUMMARY: On June 28, 2013, the GPU Nuclear Inc. (GPUN) submitted its Post Shutdown Decommissioning Activity Report (PSDAR) for Three Mile Island, Unit 2 (TMI-2). The PSDAR provides an overview of GPUN's proposed decommissioning activities, schedule, and costs for TMI-2. The NRC is requesting public comments on the PSDAR.

DATES: Submit comments by September 27, 2013. Comments received after this date will be considered if it is practical to do so, but the NRC is able to ensure consideration only for comments received on or before this date.

ADDRESSES: You may submit comments by any of the following methods [unless this document describes a different method for submitting comments on a specific subject]:

• Federal Rulemaking Web site: Go to http://www.regulations.gov and search for Docket ID NRC-2013-0183. Address questions about NRC dockets to Carol Gallagher; telephone: 301-287-3422; email: Carol.Gallagher@nrc.gov. For technical questions, contact the individuals listed in the FOR FURTHER INFORMATION CONTACT section of this document.

• Mail comments to: Cindy Bladey, Chief, Rules, Announcements, and Directives Branch, Office of Administration, Mail Stop: 3WFN-06-A44M, U.S. Nuclear Regulatory Commission, Washington, DC 20555-0001.

For additional direction on accessing information and submitting comments, see “Accessing Information and Submitting Comments” in the SUPPLEMENTARY INFORMATION section of this document.

FOR FURTHER INFORMATION CONTACT: John T. Buckley, Office of Federal and State Materials and Environmental Management Programs, U.S. Nuclear Regulatory Commission, Washington, DC 20555-0001; telephone: 301-415-6607; email: John.Buckley@nrc.gov.

SUPPLEMENTARY INFORMATION:

I. Accessing Information and Submitting Comments

A. Accessing Information

Please refer to Docket ID NRC-2013-0183 when contacting the NRC about the availability of information regarding this document. You may access publically-available information by any of the following methods:

• Federal Rulemaking Web site: Go to http://www.regulations.gov and search for Docket ID NRC-2013-0183.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The PSDAR, dated June 2013, was placed in ADAMS with Accession No. ML13190A366.

• NRC's PDR: You may examine and purchase copies of public documents at the NRC's PDR, Room O1-F21, One White Flint North, 11555 Rockville Pike, Rockville, Maryland 20852.

B. Submitting Comments

Please include Docket ID NRC-2013-0183 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC issued GPUN operating license DPR-73 for TMI-2 on February 8, 1978. Commercial operation of TMI-2 began on December 30, 1978. On March 28, 1979, TMI-2 experienced an accident which resulted in severe damage to the reactor core and has been in a non-operating status since the accident. The GPUN defueled the reactor vessel and decontaminated the facility to the extent that the plant is in a safe, inherently stable condition known as post-defueling monitored storage (PDMS). Approximately 99 percent of the fuel was removed from TMI-2 and shipped to Idaho National Engineering and Environmental Laboratory under the responsibility of the U.S. Department of Energy.

The accident made the shutdown of TMI-2 unique from all other reactors in that GPUN did not follow the standard process for cessation of operations provided in § 50.82 of Title 10 of the Code of Federal Regulations (10 CFR), “Termination of license.” The formal transition of TMI-2 from post-accident cleanup to PDMS required NRC approval. The GPUN obtained NRC approval to maintain TMI-2 in the PDMS state until decommissioning with the issuance of License Amendment No. 45 dated September 14, 1993 (ADAMS Accession No. 9405190046). License Amendment No. 45 also converted GPUN's operating license to the current possession-only license. As a result, the NRC considers GPUN to have submitted a certification of permanent cessation of operations and a certification of permanent fuel removal as of September 14, 1993. In accordance with § 50.82 in effect at that time, GPUN should have submitted a decommissioning plan by September 1995. In 1996, the NRC amended its regulations in 10 CFR 50.82 to require, among other things, that power reactor licensees submit a PSDAR instead of a decommissioning plan. On June 28, 2013, the GPUN submitted its PSDAR to establish compliance with § 50.82(a)(4). The GPUN stated that its PSDAR will maintain TMI-2 in the PDMS state up to an additional 20 years to coincide with the end of the TMI, Unit 1 (TMI-1) Operating License to synchronize decommissioning of TMI-1 and TMI-2.

III. Request for Public Comments

The NRC is requesting public comments on the PSDAR.

Dated at Rockville, Maryland, this 6th day of August 2013.
For the Nuclear Regulatory Commission.
Bruce Watson,
Chief, Decommissioning and Uranium Licensing Directorate, Division of Waste Management and Environmental Protection, Office of Federal and State Materials and Environmental Management Programs.

[FR Doc. 2013-19710 Filed 8-13-13; 8:45 am]

BILLING CODE 7590-01-P